SMALL BUSINESS ADMINISTRATION

[Disaster Declaration #17565 and #17566; MISSOURI Disaster Number MO-00116]

Presidential Declaration of a Major Disaster for Public Assistance Only for the State of Missouri

AGENCY: Small Business Administration.

ACTION: Notice.

SUMMARY: This is a Notice of the Presidential declaration of a major disaster for Public Assistance Only for the State of Missouri (FEMA-4665-DR), dated 08/08/2022.

Incident: Severe Storm and Flooding.

Incident Period: 07/25/2022 through 07/28/2022.

DATES: Issued on 08/08/2022.

Physical Loan Application Deadline Date: 10/07/2022.

Economic Injury (EIDL) Loan Application Deadline Date: 05/08/2023.

ADDRESSES: Submit completed loan applications to: U.S. Small Business Administration, Processing and Disbursement Center, 14925 Kingsport Road, Fort Worth, TX 76155.

FOR FURTHER INFORMATION CONTACT: Alan Escobar, Office of Disaster Assistance, U.S. Small Business Administration, 409 3rd Street SW, Suite 6050, Washington, DC 20416, (202) 205-6734.

SUPPLEMENTARY INFORMATION: Notice is hereby given that as a result of the President's major disaster declaration on 08/08/2022, Private Non-Profit organizations that provide essential services of a governmental nature may file disaster loan applications at the address listed above or other locally announced locations.

The following areas have been determined to be adversely affected by the disaster:

Primary Counties: Montgomery, Saint Charles, Saint Louis, Saint Louis City.

The Interest Rates are:

| Percent
For Physical Damage:
Non-Profit Organizations With Credit Available Elsewhere | 1.875
Non-Profit Organizations Without Credit Available Elsewhere | 1.875
For Economic Injury:
Non-Profit Organizations Without Credit Available Elsewhere | 1.875

The number assigned to this disaster for physical damage is 17565 6 and for economic injury is 17566 0.

(Catalog of Federal Domestic Assistance Number 59008)

Rafaela Monchek,
Acting Associate Administrator for Disaster Assistance.

[FR Doc. 2022-18670 Filed 8-29-22; 8:45 am]

BILLING CODE 8026-09-P